DEPARTMENT OF TRANSPORTATION

Federal Aviation Administration

Second Meeting, Special Committee 211, Nickel-Cadmium, Lead Acid and Rechargeable Lithium Batteries

AGENCY: Federal Aviation Administration (FAA), DOT.

ACTION: Notice of RTCA Special Committee 211, Nickel-Cadmium, Lead Acid and Rechargeable Lithium Batteries.

SUMMARY: The FAA is issuing this notice to advise the public of a first meeting of RTCA Specialist Committee 211, Nickel-Cadmium, Lead Acid and Rechargeable Lithium Batteries.

DATES: The meeting will be held October 31-November 1, 2006, from 9 a.m.-5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org for directions.

SUPPLEMENTARY INFORMATION: Pursuant to section 10(a)(2) of the Federal Advisory Committee Act (Pub. L. 92-463, 5 U.S.C., Appendix 2), notice is hereby given for a Special Committee 211 meeting. The agenda will include:

• October 31-November 1:

• Opening Plenary Session (Welcome, Introductions, and Administrative Remarks, Agenda Overview).

• Review/Approve Change 1 to DO-293.

• Discuss and decide if the Lithium Rechargeable Batteries Special Requirements can be added to DO-293 or a new separated standards as needed.

• Develop Lithium MOPS (Minimum Operational Performance Standard).

• Closing Plenary Session (Other Business, Establish Agenda, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 27, 2006.
Francisco Estrada C.,
RTCA Advisory Committee.

[FR Doc. 06-8617 Filed 10-11-05; 8:45 am]

BILLING CODE 4910-13-M